DEPARTMENT OF COMMERCE

National Institute of Standards and Technology

National Fire Codes: Request for Comments on NFPA Technical Committee Reports

AGENCY: National Institute of Standards and Technology, Commerce.

ACTION: Notice.

SUMMARY: The National Fire Protection Association (NFPA) revises existing standards and adopts new standards twice a year. At its January and July meetings, the NFPA Standards Council acts on recommendations made by its technical committees.

The purpose of this notice is to request comments on the technical reports that will be presented at NFPA's 2006 June Cycle. The publication of this notice by the National Institute of Standards and Technology (NIST) on behalf of NFPA is being undertaken as a public service; NIST does not necessarily endorse, approve, or recommend any of the standards referenced in the notice.

DATES: Forty-eight reports are published in the 2006 June Cycle Report on Proposals and will be available on June 24, 2005. Comments received on or before September 2, 2005 will be considered by the respective NFPA Committees before final action is taken on the proposals.

ADDRESSES: The 2006 June Cycle Report on Proposals is available and downloadable from NFPA's Web site— http://www.nfpa.org or by requesting a copy from the NFPA, Fulfillment Center, 11 Tracy Drive, Avon, Massachusetts 02322. Comments on the report should be submitted to Casey C. Grant, Secretary, Standards Council, NFPA, 1 Batterymarch Park, P.O. Box 9101, Quincy, Massachusetts 02269-9101.

FOR FURTHER INFORMATION CONTACT: Casey C. Grant, Secretary, Standards Council, NFPA, 1 Batterymarch Park, Quincy, Massachusetts 02269-9101, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR part 51.

Revisions of existing standards and adoption of new standards are reported by the technical committees to the Standards Council for issuance in January and July of each year. Documents that receive an Intent to Make Motion are automatically held for action at the NFPA's meeting in June of each year. The NFPA invites public comment on its Report on Proposals.

Request for Comments

Interested persons may participate in these revisions by submitting written data, views, or arguments to Casey C. Grant, Secretary, Standards Council, NFPA, 1 Batterymarch Park, Quincy, Massachusetts 02269-9101. Commenters may use the forms provided for comments in the Reports on Proposals. Each person submitting a comment should include his or her name and address, identify the notice, and give reasons for any recommendations. Comments received on or before September 2, 2005 for the 2006 June Cycle Report on Proposals will be considered by the NFPA before final action is taken on the proposals.

Copies of all written comments received and the disposition of those comments by the NFPA committees will be published as the 2006 June Cycle Report on Comments by February 24, 2006.

A copy of the Report on Comments will be sent automatically to each commenter. Reports of the Technical Committees on documents that do not receive an Intent to Make a Motion will automatically be forwarded to the Standards Council for action at its July 28, 2006 meeting. Action on the reports of the Technical Committees on documents that do receive an Intent to Make a Motion will be taken at the June Meeting, June 4-8, 2006, in Orlando, Florida, by NFPA members.

2006 June Meeting Report on Proposals
[P = Partial revision; W = Withdrawal; R = Reconfirmation; N = New; C = Complete Revision]
NFPA 13 | Standard for the Installation of Sprinkler Systems | P
NFPA 13D | Standard for the Installation of Sprinkler Systems in One- and Two-Family Dwellings and Manufactured Homes | P
NFPA 13R | Standard for the Installation of Sprinkler Systems in Residential Occupancies up to and Including Four Stories in Height | P
NFPA 15 | Standard for Water Spray Fixed Systems for Fire Protection | P
NFPA 20 | Standard for the Installation of Stationary Pumps for Fire Protection | P
NFPA 24 | Standard for the Installation of Private Fire Service Mains and Their Appurtenances | P
NFPA 30A | Code for Motor Fuel Dispensing Facilities and Repair Garages | P
NFPA 30B | Code for the Manufacture and Storage of Aerosol Products | P
NFPA 32 | Standard for Drycleaning Plants | P
NFPA 33 | Standard for Spray Application Using Flammable or Combustible Materials | P
NFPA 34 | Standard for Dipping and Coating Processes Using Flammable or Combustible Liquids | P
NFPA 40 | Standard for the Storage and Handling of Cellulose Nitrate Film | P
NFPA 72 | National Fire Alarm Code® | P
NFPA 77 | Recommended Practice on Static Electricity | C
NFPA 80 | Standard for Fire Doors and Fire Windows | C
NFPA 80A | Recommended Practice for Protection of Buildings from Exterior Fire Exposures | P
NFPA 86 | Standard for Ovens and Furnaces | P
NFPA 88A | Standard for Parking Structures | P
NFPA 101A | Guide on Alternative Approaches to Life Safety | P
NFPA 101B | Code for Means of Egress for Buildings and Structures | W
NFPA 105 | Standard for the Installation of Smoke Door Assemblies | P
NFPA 130 | Standard for Fixed Guideway Transit and Passenger Rail Systems | P
NFPA 150 | Standard on Fire Safety in Racetrack Stables | C
NFPA 232 | Standard for the Protection of Records | C
NFPA 257 | Standard on Fire Test for Window and Glass Block Assemblies | C
NFPA 258 | Recommended Practice for Determining Smoke Generation of Solid Materials | W
NFPA 262 | Standard Method of Test for Flame Travel and Smoke of Wires and Cables for Use in Air-Handling Spaces | R
NFPA 265 | Standard Methods of Fire Tests for Evaluating Room Fire Growth Contribution of Textile Coverings on Full Height Panels and Walls | P
NFPA 268 | Standard Test Method for Determining Ignitibility of Exterior Wall Assemblies Using a Radiant Heat Energy Source | P
NFPA 269 | Standard Test Method for Developing Toxic Potency Data for Use in Fire Hazard Modeling | C
NFPA 287 | Standard Test Methods for Measurement of Flammability of Materials in Cleanrooms Using a Fire Propagation Apparatus (FPA) | C
NFPA 288 | Standard Method of Fire Tests of Floor Fire Door Assemblies Installed Horizontally in Fire Resistance Rated Floor Systems | R
NFPA 291 | Recommended Practice for Fire Flow Testing and Marking of Hydrants | P
NFPA 407 | Standard for Aircraft Fuel Servicing | P
NFPA 414 | Standard for Aircraft Rescue and Fire-Fighting Vehicles | P
NFPA 556 | Guide for Identification and Development of Mitigation Strategies for Fire Hazard to Occupants of Road Vehicles | N
NFPA 655 | Standard for Prevention of Sulfur Fires and Explosions | C
NFPA 664 | Standard for the Prevention of Fires and Explosions in Wood Processing and Woodworking Facilities | P
NFPA 704 | Standard System for the Identification of the Hazards of Materials for Emergency Response | P
NFPA 853 | Standard for the Installation of Stationary Fuel Cell Power Systems | P
NFPA 1081 | Standard for Industrial Fire Brigade Member Professional Qualifications | C
NFPA 1125 | Code for the Manufacture of Model Rocket and High Power Rocket Motors | P
NFPA 1142 | Standard on Water Supplies for Suburban and Rural Fire Fighting | C
NFPA 1221 | Standard for the Installation, Maintenance, and Use of Emergency Services Communications Systems | C
NFPA 1500 | Standard on Fire Department Occupational Safety and Health Program | C
NFPA 1582 | Standard on Comprehensive Occupational Medical Program for Fire Departments | C
NFPA 2112 | Standard on Flame-Resistant Garments for Protection of Industrial Personnel Against Flash Fire | P
NFPA 2113 | Standard on Selection, Care, Use, and Maintenance of Flame-Resistant Garments for Protection of Industrial Personnel Against Flash Fire | P

Dated: May 27, 2005.
Hratch G. Semerjian,
Acting Director.

[FR Doc. 05-11117 Filed 6-2-05; 8:45 am]

BILLING CODE 3510-13-P